DEPARTMENT OF COMMERCE

Economic Development Administration

[Docket No.: 100323164-0164-01]

EDA Participation in the Energy Efficient Building Systems Regional Innovation Cluster Initiative

AGENCY: Economic Development Administration (EDA), Department of Commerce.

ACTION: Notice and request for applications.

SUMMARY: EDA announces its participation in the Energy Efficient Building Systems Regional Innovation Cluster Initiative (Initiative), the first pilot project of the Interagency Regional Innovation Clusters Taskforce (Taskforce). The Taskforce has been charged with developing a replicable and sustainable model for coordinated Federal and regional efforts that foster and use regional innovation clusters to: Develop and demonstrate sustainable and efficient models for attaining national strategic objectives; create and retain Good Jobs (defined below); eliminate gaps between the supply and demand for workers in specialized fields through training and education; increase regional gross domestic product (GDP); promote innovation in science and technology; and enhance the economic, technological, and commercial competitiveness of the United States on the global stage. The Taskforce has selected Energy Efficient Building Systems Design as the topical focus for its first pilot project. The pilot project will be anchored around a Department of Energy (DOE)-funded Energy Innovation Hub and will incorporate elements funded by each of EDA, SBA, and NIST/MEP. Capitalized terms used in this notice and request for applications have the meanings ascribed to them under the heading SUPPLEMENTARY INFORMATION below.

DATES: Consortia must submit their completed application package pursuant to the instructions set out in this notice and in Section IV of the Joint Federal Funding Opportunity Announcement of the Fiscal Year (FY) 2010 Energy Efficient building Systems Regional Innovation Cluster Initiative (FOA) no later than May 6, 2010, at 5 p.m. (Eastern time).

ADDRESSES: All application forms are available online and may not be requested in hardcopy format. Therefore, unless otherwise specified in the FOA, all forms must be downloaded from http://www.grants.gov. As specified in Section IV.I of the FOA, the Consortium must submit six (6) copies of a compact disc (CD), labeled as specified in the FOA, with each CD containing all required forms and narratives from all Co-applicants. Proposals should not be submitted via Grants.gov, but should be delivered no later than 5 p.m. (Eastern time) on May 6, 2010, at the following address: Maureen Klovers; Economic Development Administration; U.S. Department of Commerce; Rm. 7019; 1401 Constitution Avenue, NW.; Washington, DC 20230.

FOR FURTHER INFORMATION CONTACT: For additional information please submit questions via e-mail at e-ric@eda.doc.gov. The FOA, additional information about the funding opportunity, updates, and questions and answers are available at http://www.energy.gov/hubs/eric.htm. Prospective applicants should check the Web site for updates on a regular basis.

Application Submission Requirements: Prospective applicants are advised to read the application instructions in the FOA very carefully, as these instructions differ from typical FOA submission instructions. Highlighted below are key aspects of the application process specific to this competitive solicitation.

Consortium Proposals and Co-Applicant Applications

As described in Section V of the FOA, only one Consortium Proposal will be selected for funding under the joint FOA. Each Consortium will be permitted to submit only one Proposal. Each Consortium Proposal shall include four Applications for funding and the Overarching Regional Innovation Cluster Project Narrative (see Section IV of the FOA for details on this submission) that will explain proposed activities of the Consortium as a whole. The four Applications within each Proposal shall be: (i) The Application for DOE assistance; (ii) the Application for EDA assistance; (iii) the Application for NIST/MEP assistance; and (iv) the Application for SBA assistance. The Co-applicants within any Consortium must demonstrate in their Proposal that they have entered into a written agreement to operate as a Consortium for at least as long a period as the term of the longest award made under the FOA (see Section IV of the FOA for further details).

Although the four Co-applicants will collaborate as a Consortium, each Co-applicant will receive a separate award from the applicable Granting Agency. Accordingly, the DOE Co-applicant on the winning Proposal will receive the DOE grant funds, the EDA Co-applicant on the winning Proposal will receive the EDA funds, the NIST Co-applicant on the winning Proposal will receive the NIST/MEP funds, and the SBA Co-applicant on the winning Proposal will receive the SBA funds. Please see pertinent definitions under SUPPLEMENTARY INFORMATION below.

Please note that although each Co-applicant will be able to download just those forms that they must complete, the Proposal from the Consortium must contain all of these forms, as well as all required narratives (including the Overarching Regional Innovation Cluster Project Narrative), in a single submission. The Consortium must submit six (6) copies of a compact disc (CD), with each CD containing all required forms and narratives from all Co-applicants. Proposals should not be submitted via Grants.gov. Because the Proposal is not to be submitted via http://www.grants.gov, the Co-applicants are not required to obtain a Grants.gov user id and password.

In Order To Apply for EDA Funding, the EDA Co-Applicant Must Take the Following Steps To Download the Required Forms

1. Navigate to the URL http://www.grants.gov.

2. Click on `Apply for Grants' on the left hand menu. Note: You will not be submitting an application package through Grants.gov; however using the Grants.gov `Apply' function is necessary in order to access the required forms in a screen-fillable format.

3. Click on the blue link `Download a Grant Application Package.'

4. Enter funding opportunity number `ERIC2010'.

5. Under the `Instructions & Application' column, click on `download' for your appropriate Competition Title (`EDA Construction', `EDA Non-Construction', or `EDA Construction and Non-Construction'), depending on whether the EDA Co-applicant is seeking only construction assistance, only non-construction assistance, or both.

6. Click on the blue `Download Application Package' link.

7. Save the PDF file to your computer. This package contains only those forms that must be completed by the EDA Co-applicant.

8. In the `Application Filing Name' field, enter `[insert Consortium name]—EDA Application.'

9. Under “Mandatory Documents,” left click with your mouse on the first form name. Then click on the gray arrow button labeled “Move Form to Complete.”

10. Continue doing so until all forms listed as “Mandatory Documents” have been moved to the “Mandatory Documents for Submission” box.

11. If there are any forms listed under “Optional Documents,” move these forms to “Optional Documents for Submission” if the instructions in Section IV.F. of the FOA indicate that you are required to complete these forms.

12. Continue to save your application as you work on it.

13. Once you have completed your application package, click on the “Check Package for Errors” button at the top of the document in order to ensure that all mandatory fields in your application are filled.

14. DO NOT click on SAVE & SUBMIT. Instead, save your application locally to your own computer or network. The application package PDF file should be copied to the Consortium Proposal CD.

Applicants should access the following link for assistance in navigating http://www.grants.gov and for a list of useful resources: http://www.grants.gov/help/help.jsp. If you do not find an answer to your question under General FAQs, try consulting the Applicant User Guides. If you still cannot find an answer to your question, send an e-mail to support@grants.gov or call 1-800-518-4726. The http://www.grants.gov Contact Center is available 24 hours a day, 7 days a week (except for Federal holidays).

Page Limit of Proposal

The entire Proposal (i.e., all four Applications plus the Overarching Regional Innovation Cluster Project Narrative) must not exceed 350 pages, when printed using standard 8.5″ x 11″ paper with 1″ margins (from top, bottom, left, and right). The font size must not be smaller than Times New Roman 12-point font. Evaluators will review only the first 350 pages if more than 350 pages are submitted. Do not include any Internet URLs that provide information necessary to review the Proposal, because the information contained in these sites will not be reviewed. The page limit excludes:

• The cover page, table of contents, and required appendices of the Hub project narrative;

• The copy of the region's Comprehensive Economic Development Strategy(ies) (CEDS); and

• The copy of the EDA Co-applicant's Articles of Incorporation and By-Laws (if applicable).

SUPPLEMENTARY INFORMATION: Initiative Information: The purpose of the pilot project is to identify and support an Energy Regional Innovation Cluster (defined below) that will develop, expand, and commercialize innovative energy efficient building systems technologies, designs, and best practices for national and international distribution. Specifically, the Participating Agencies (defined below) seek to identify and fund a Consortium that will link the Hub and the other Co-applicants with complementary Federal and non-Federal investments in business development and support, public infrastructure, workforce development, and education, for the purpose of growing and expanding a robust E-RIC that will achieve the goals stated in the FOA. The FOA was published at http://www.energy.gov/hubs/eric.htm on February 8, 2010.

EDA will award up to $2 million of its Economic Adjustment Assistance Program funds and $3 million of its Public Works and Economic Development Program funds to the EDA Co-applicant as part of the Initiative. EDA seeks an EDA Co-applicant to help facilitate a high degree of collaboration among the Consortium members and offer expertise in using planned regional economic development as a framework for achieving the maximum sustainable economic impact. The EDA Co-applicant should enable the Consortium members and their E-RIC Partners to operate in an integrated, coordinated fashion, and may use EDA funds for constructing or renovating necessary infrastructure, for strategic planning purposes, or for revolving loan fund grants. Examples of possible uses of funds include: Upgrading business incubators or publicly-owned industrial or commercial buildings and infrastructure so they can serve the purposes of the E-RIC; to conduct E-RIC coordination, planning or technical assistance activities; or to capitalize revolving loan funds focused on supporting firms in the E-RIC. EDA encourages the Consortia to consider new, energy efficient and environmentally beneficial ways of constructing or renovating infrastructure, including use of natural vegetation for storm water retention and sewage filtration, green roofs, and on-site water recycling.

The two EDA programs from which funds may be awarded are the (i) Public Works and Economic Development Program and (ii) Economic Adjustment Assistance Program. The Public Works Program may fund investments that expand, upgrade, and “green” infrastructure to attract new industry, support technology-led development, accelerate new business development while promoting energy-efficiency, and enhance the ability of regions to capitalize on opportunities to export goods and services. EDA's Economic Adjustment Assistance (EAA) Program is designed to respond flexibly to pressing economic recovery issues and is well suited to help address challenges and obstacles to the formation and sustenance of a successful E-RIC. EAA funds may be used for strategic planning and technical assistance, physical infrastructure, or revolving loan funds. Please see the FOA for more details on the objectives and goals of the Initiative and EDA's Public Works and EAA Programs.

Capitalized Terms Used in This Notice and Request for Applications Shall Have the Following Definitions, as More Specifically Described in the FOA

1. Application: Any Co-applicant's application for funding from one of the Granting Agencies announced through the FOA.

2. Consortium: The collective group of Co-applicants presenting a unified Proposal in response to the FOA.

3. Consortium MOU: The memorandum of understanding, or similar agreement, among the Consortium, the Participating Agencies, and NSF that will reflect long-term commitments of the Consortium to the emergence and successful growth of the E-RIC based on plans and other materials presented in the Consortium Proposal.

4. Co-applicants (and each, a Co-applicant): Collectively, each member of the Consortium that is applying for Federal funding assistance, anticipated to include the DOE Co-applicant, the EDA Co-applicant, the SBA Co-applicant, and the NIST Co-applicant.

5. Co-applicant Scope of Work: The specific portion of the Proposal to be performed pursuant to a specific funding agreement by a specific Co-applicant.

6. DOE Co-applicant (or Hub Co-applicant): The entity or entities applying for direct funding from the Department of Energy under the FOA.

7. EDA Co-applicant: The entity or entities applying for direct funding from the Economic Development Administration, Department of Commerce, under the FOA.

8. Energy Regional Innovation Cluster (E-RIC): The geographically-bounded, active network of similar, synergistic or complementary organizations, which includes the selected Consortium (and, therefore, the Hub), engaged in or with the energy efficient buildings systems and design industry, with active channels for business transactions, communications, and dialogue, that share specialized infrastructure, labor markets, and services. The E-RIC may be located in a defined geographic region that crosses municipal, county, and other jurisdictional boundaries. The E-RIC should encompass local universities, government research centers, and other research and development (R&D) resources, which shall serve as catalysts of innovation and drivers of regional economic growth. The E-RIC should leverage the region's unique competitive strengths and seek to nurture networks for business financing, business-to-business sales, education, and workforce development. These networks will include the E-RIC Partners and strategic partnerships with similar institutions (some of whom may be located outside of the E-RIC's geographic region) to ensure that the full potential of the E-RIC is realized.

9. E-RIC Partners: The public and private entities (i.e., local and regional governments and quasi-public entities, venture capitalists, private banks, workforce investment boards, institutions of higher education including community colleges, and other public and private agencies and institutions) that have submitted formal Letters of Commitment to collaborate with the Consortium to develop and expand the E-RIC. E-RIC Partners are entities other than the Co-applicants that will work with the Consortium to foster a vibrant E-RIC. E-RIC Partners are not required to be located within the E-RIC's geographic region.

10. Energy Technologies: Refers to the means of locating, assessing, harvesting, transporting, processing, and transforming the primary energy forms found in nature (e.g., sunlight, biomass, crude petroleum, coal, uranium-bearing rocks) to yield either direct energy services (e.g., heat from fuel wood or coal) or secondary forms more convenient for human use (e.g., charcoal, gasoline, electricity). Also included under the heading of energy technology is the means of distributing secondary forms to their end users and the means of converting these forms to energy services (e.g., electricity to light and refrigeration, electricity and gasoline to motive power). A distinction is often made between energy-supply technologies, meaning those used to bring energy forms to a point of final use, and energy end-use technologies, meaning those applied at this point of use to convert an energy form to a service such as light or motive power.

11. Good Jobs: Jobs that increase workers' incomes; narrow wage and income inequality; provide safe and healthy workplaces, particularly in high-risk industries; comply with applicable laws governing wages and overtime pay; are open to all eligible job-seekers; and provide necessary skills and training to prepare workers for success in the high-growth and emerging careers that will result from the Energy Regional Innovation Cluster.

12. Granting Agencies: DOE, the Department of Commerce's EDA and NIST, and SBA.

13. Hub (or Energy-Efficient Building Systems Design Hub): The DOE Co-applicant's fully-integrated, multidisciplinary RD&D program that will create practical, replicable strategies for reducing overall energy consumption in buildings.

14. NIST Co-applicant: The NIST/MEP Center applying for direct funding from NIST under the FOA.

15. NIST/MEP: The Hollings Manufacturing Extension Partnership Program of the National Institute for Standards and Technology.

16. Participating Agencies: Those members of the Interagency Regional Innovation Clusters Taskforce that are participating in the review and selection process described in Section V of the FOA (i.e., DOE, DOC/EDA, DOC/NIST, SBA, DOL, ED).

17. Proposal: The collective, unified proposal submitted by a particular Consortium in response to the FOA. A Proposal contains four applications reflecting a DOE Co-applicant's Application for DOE funding, an EDA Co-applicant's Application for EDA funding; an SBA Co-applicant's Application for SBA funding and a NIST Co-applicant's Application for NIST/MEP funding.

18. Region: An economic unit of human, natural, technological, capital or other resources, defined geographically. Geographic areas comprising a region need not be defined by political boundaries, but should constitute a cohesive area capable of undertaking self-sustained economic development.

19. SBA Co-applicant: The Small Business Development Center(s) applying for direct funding from the Small Business Administration under the FOA.

20. Taskforce: The Interagency Regional Innovation Clusters Taskforce that is made up of DOE, DOC/EDA, DOC/NIST, DOL, ED, SBA, and NSF.

21. Underrepresented groups: Ethnic and racial minorities—including Native Americans, Alaskan Natives, Black- or African-Americans, Latinos or Hispanics, Asian-Americans or Native Hawaiian or other Pacific Islanders; women; veterans; and persons with disabilities.

Statutory Authority: EDA's authorizing statute is the Public Works and Economic Development Act of 1965, as amended (42 U.S.C. 3121 et seq.) (PWEDA). The statutory authorities for the (i) Public Works and Economic Development Facilities Program; and (ii) Economic Adjustment Assistance Program are sections 201 (42 U.S.C. § 3141), and 209 (42 U.S.C. 3149) of PWEDA, respectively.

EDA's regulations are codified at 13 CFR chapter III. The regulations and PWEDA are accessible on EDA's Web site at http://www.eda.gov/InvestmentsGrants/Lawsreg.xml.

Funding Availability: Funding appropriated under the Consolidated Appropriations Act, 2010 (Pub. L. 111-117, 123 Stat. 3034, at 3114 (2009)), together with other appropriated funds, is available for the economic development assistance programs authorized by PWEDA. Under this notice and request for applications, $2,000,000 of Economic Adjustment Assistance and $3,000,000 of Public Works and Economic Development Program assistance is available for this award and shall remain available until expended.

(Catalog of Federal Domestic Assistance (CFDA) Numbers (EDA Co-applicant): 11.300 Grants for Public Works and Economic Development Facilities; 11.307, Economic Adjustment Assistance.)

Eligibility Requirements: Pursuant to PWEDA, eligible applicants for EDA's Public Works and Economic Adjustment Assistance Programs include a(n): (i) District Organization; (ii) Indian Tribe or a consortium of Indian Tribes; (iii) State, a city or other political subdivision of a State, including a special purpose unit of a State or local government engaged in economic or infrastructure development activities, or a consortium of political subdivisions; (iv) institution of higher education or a consortium of institutions of higher education; or (v) public or private non-profit organization or association acting in cooperation with officials of a political subdivision of a State. See section 3 of PWEDA (42 U.S.C. 3122) and 13 CFR 300.3. For-profit, private-sector entities and individuals are not eligible for investment assistance.

The EDA-funded project must be located in an area that, on the date EDA receives the Proposal, meets one (or more) of the following economic distress criteria: (i) An unemployment rate that is, for the most recent 24-month period for which data are available, at least one percentage point greater than the national average unemployment rate; (ii) per capita income that is, for the most recent period for which data are available, 80 percent or less of the national average per capita income; or (iii) has a “Special Need,” as determined by EDA.

EDA-Specific Cost Sharing Requirement: Generally, the amount of the EDA grant may not exceed 50 percent of the total cost of the project. Projects may receive an additional amount that shall not exceed 30 percent, based on the relative needs of the region in which the project will be located (when compared with other distressed regions around the country), as determined by EDA. See section 204(a) of PWEDA (42 U.S.C. 3144) and 13 CFR 301.4(b)(1). In the case of EDA investment assistance to a(n): (i) Indian Tribe, (ii) State (or political subdivision of a State) that the Assistant Secretary determines has exhausted its effective taxing and borrowing capacity, or (iii) non-profit organization that the Assistant Secretary determines has exhausted its effective borrowing capacity, the Assistant Secretary has the discretion to establish a maximum EDA investment rate of up to 100 percent of the total project cost. See sections 204(c)(1) and (2) of PWEDA (42 U.S.C. 3144) and 13 CFR 301.4(b)(5).

Funds from other Federal financial assistance awards are considered matching share funds for the EDA Co-applicant Scope of Work only if authorized by statute, which may be determined by EDA's reasonable interpretation of the statute. See 13 CFR 300.3. The EDA Co-applicant must show that the matching share is committed to the EDA Co-applicant Scope of Work for the award period, will be available as needed, and is not conditioned or encumbered in any way that precludes its use consistent with the requirements of EDA investment assistance. See 13 CFR 301.5. While cash contributions are preferred, in-kind contributions, consisting of contributions of space, equipment, or services, may provide the required non-Federal share of the total project cost. See 15 CFR 24.24.

Evaluation and Selection Procedures (Section V of the FOA): The evaluation criteria and selection procedures that EDA will use when evaluating EDA Applications and selecting the EDA Co-applicant under the FOA differ markedly from EDA's standard operating procedures and, in some cases, EDA's regulations.

Selection Procedures

The selection procedures set forth below, and in more detail in Section V of the FOA, will supersede EDA's standard procedures for this competitive solicitation. These procedures will be implemented on behalf of EDA by EDA Headquarters, and are as follows:

Phase 1: Initial eligibility and responsiveness review. The Granting Agencies will conduct an initial eligibility and responsiveness review to determine if the submitted Proposals (a) contain all required items for submission, as specified in Section IV of the FOA, and (b) include agency-specific Applications that meet the relevant agency-specific eligibility criteria, as specified in Section III of the FOA.

Phase 2: DOE review of the Hub-specific portion of the Proposal. In this phase, DOE will review only those Proposals that were determined to be eligible and responsive during the prior phase of review. DOE will review the Hub-specific portion of the Proposal provided by the DOE Co-Applicant (see Section V.B of the FOA for the Hub-specific criteria against which Proposals in this phase will be reviewed). DOE will conduct this merit review in accordance with the nonbinding guidance provided in the “Department of Energy Merit Review Guide for Financial Assistance and Unsolicited Proposals.” This guide is available under Financial Assistance, Regulations and Guidance at http://www.management.energy.gov/documents/meritrev.pdf. Following this merit review, DOE will apply the DOE-specific program policy factors and identify the top tier of DOE Co-applicants based on the Hub evaluation criteria and the program policy factors. The Proposals associated with this top tier (“Top Tier Proposals”) will continue to Phase #3.

Phase 3: EDA, NIST/MEP, and SBA review of Proposals. Representatives from the Granting Agencies other than DOE will perform an agency-specific review of their respective Applications for funding contained within the Top Tier Proposals. This review will assess the quality of the Applications based on the agency-specific criteria set forth in the FOA.

Phase 4: Technical merit review of Consortium Proposals by interagency panel. In this phase, an interagency review panel composed of representatives from the Participating Agencies will review all Top Tier Proposals. In this phase, the interagency review panel will evaluate each Top Tier Proposal based on the E-RIC evaluation criteria listed in Section V.E of the FOA.

Phase 5: Interactions with Consortia Submitting Top Tier Proposals. The interagency panel may interact with Consortia that submitted Top Tier Proposals as identified in Phase #2. In these interactions, Consortia may be notified of any shortcomings identified in Phases #2, #3, or #4 and be given the opportunity to submit supplemental materials to address these shortcomings. The interagency panel may elect to skip this phase; however, if the interagency panel elects to interact with any Consortium, it will interact with all Consortia submitting Top Tier Proposals.

Phase 6: Interviews and Site Visits. The interagency panel may elect to conduct interviews and/or site visits with the Consortia that submitted Top Tier Proposals. If the interagency panel elects to conduct interviews with any Consortium, it will conduct interviews with all Consortia submitting Top Tier Proposals. Site visits will be conducted at the interagency panel's discretion.

Phase 7: Interagency Panel Scores and Ranks Consortia. The interagency panel will then review the Top Tier Proposals, along with the results of any interviews or site visits and any supplementary materials submitted by the Consortia pursuant to Phase #5, and rate the Top Tier Proposals based on the E-RIC evaluation criteria in Section V.E of the FOA. Proposals that either a) are deemed unsatisfactory on the E-RIC evaluation criteria or b) are deemed unsatisfactory for funding by any Granting Agency on the basis of its agency-specific evaluation will be eliminated from further consideration. The interagency panel will then assign scores to the remaining Proposals based on the E-RIC evaluation criteria, which may be informed by the agency-specific technical merit reviews from EDA, NIST/MEP, and SBA. If all Top Tier Proposals are eliminated in Phase #7, the interagency panel will not proceed to Phase #8. In this case, each Granting Agency may rely upon its own analysis and use the funds available under the FOA to fund any eligible Co-applicant it so chooses, or make no selection at all.

Phase 8: Interagency Panel Identification of Recommended Proposal. The interagency panel will then apply specific policy factors to the remaining Top Tier Proposals as described in the FOA. The interagency panel will determine, based on its ranking and the policy factors, which Proposal it will recommend (the “Recommended Proposal”) for funding to the Granting Agencies. The interagency panel will recommend funding the top-ranked Proposal from Phase #7 unless the panel recommends another Top Tier Proposal on the basis of the application of the policy factors. Each Granting Agency's representative on the interagency panel will recommend to their agency's Selecting Official that their agency fund their respective Co-applicant from the Recommended Proposal.

Phase 9: Recommendation to Agency Selecting Officials and Agency Award Selections. The interagency panel members representing Granting Agencies will then forward to their respective Selecting Officials (i) a memorandum recommending the selection of the Co-Applicant on the Recommended Proposal for award, together with (ii) the Recommended Proposal itself and the ranking of the Top Tier Proposals by the interagency panel. Although it is anticipated that the Selecting Officials will be guided by their respective staff's recommendation, each Selecting Official does retain the right to not make an award.

Phase 10: Negotiation of Consortium MOU and Final Awards. After the selected Proposal has been identified but prior to awards, the interagency panel will engage in negotiations with the Consortium in order to establish a collective agreement among all Consortium Co-applicants and all agencies involved in the interagency panel regarding certain matters proposed in the Consortium's Proposal. The Consortium MOU will establish the long-term commitments of the Consortium as a whole to the management and facilitation of the E-RIC. Each Selecting Official may also enter into individual discussions with its selected recipient in order to negotiate and finalize a satisfactory award instrument consistent with the terms in the Consortium MOU. Such discussions may entail (1) conforming modifications to the project budget or Co-Applicant Scope of Work to meet Participating Agency requirements; or (2) special terms and conditions that may be required.

Any Granting Agency may enter into negotiations with its selected recipient for any reason it deems necessary, including but not limited to: (1) The budget is not appropriate or reasonable for the requirement; (2) only a portion of the Application is selected for award; (3) a Granting Agency needs additional information to determine that the Co-applicant is capable of complying with the requirements in the FOA or the Granting Agency's applicable regulations; or (4) special terms and conditions are required. Failure to resolve satisfactorily the issues identified by the applicable Granting Agency will preclude award to its selected recipient. In the event that negotiations with the selected recipient cannot be resolved to the Granting Agency's satisfaction, the Granting Agencies reserve the right to select an alternate Consortium using the results from Phases #7 and #8 above.

Notice of Selection

Subject to the availability of funding, successful Co-applicants should expect to receive notification of selection for negotiation within sixty (60) to ninety (90) days from the closing date of the FOA. Each Co-applicant award will have an estimated start date between August 1, 2010, and September 30, 2010.

Evaluation Criteria

The evaluation criteria set forth in this notice and request for applications, and more fully described in Section V of the FOA, will supersede any other evaluation criteria used by EDA for this competitive solicitation, including without limitation those set forth in 13 CFR 301.8. Where consistent with the terms set forth in the FOA, applicant eligibility, program objectives and priorities, and other application and award requirements are set forth in EDA's regulations and EDA Co-applicants must address these requirements; however, EDA's investment policies and priorities, evaluation criteria, and selection procedures shall be exclusively as set forth in this notice and the FOA, and EDA's codified regulations regarding those matters shall not apply.

EDA Investment Policies and Funding Priorities

EDA's mission is to catalyze and foster regional economic development. EDA concentrates its resources on building a new foundation for sustainable economic growth. This foundation builds upon two key economic drivers—innovation and regional collaboration. Innovation puts ideas into action by developing and commercializing new products, services, and technologies for sale in the regional, national, and global marketplace. Regional collaboration requires cooperation across city, county, and even State lines; cross-functional collaboration among government agencies; and collaboration among the private, non-profit, and public sector. EDA funds approaches to economic development that break down barriers to collaboration and that support local and regional efforts to spur economic growth, create jobs, and enhance quality of life. In general, EDA strives to support a portfolio of investments that:

• Promote regional development;

• Accelerate innovation, technology transfer, and entrepreneurship to create or expand high-impact, fast-growth businesses;

• Attract private and non-profit capital;

• Create and retain good jobs and increase regional per capita income;

• Foster a globally competitive workforce;

• Increase exports of U.S. products and services; and

• Leverage complementary investments by other Federal, State and local entities.

Finally, EDA encourages Proposals that engage the diverse populations of America, including the most disadvantaged and historically underrepresented, to contribute to and reap the benefits of these funding priorities.

EDA-specific Evaluation Criteria for EDA Co-applicant

EDA will use the following evaluation criteria for specific evaluation of the EDA Co-applicant:

i. Qualifications of EDA Co-applicant's key personnel to perform the proposed project.

ii. Quality of EDA Co-applicant's proposed management, and the extent to which the proposed project effectuates EDA's investment priorities, which are:

• Collaborative Regional Innovation. Initiatives that support the development and growth of innovation clusters based on existing regional competitive strengths. Initiatives must engage stakeholders; facilitate collaboration among urban, suburban and rural (including Tribal) areas; provide stability for economic development through long-term intergovernmental and public/private collaboration; and support the growth of existing and emerging industries.

• Public/Private Partnerships. Investments that use both public and private sector resources and leverage complementary investments by other government/public entities and/or non-profits.

• National Strategic Priorities. Initiatives that encourage job growth and business expansion in clean energy; green technologies; sustainable manufacturing; information technology (e.g., broadband, smart grid) infrastructure; communities severely impacted by automotive industry restructuring; natural disaster mitigation and resiliency; access to capital for small and medium sized and ethnically diverse enterprises; and innovations in science, health care and alternative fuel technologies.

• Global Competitiveness. Investments that support high growth businesses and innovation-based entrepreneurs to expand and compete in global markets.

• Environmentally-Sustainable Development. Investments that encompass best practices in `environmentally sustainable development,' broadly defined, to include projects that enhance environmental quality and develop and implement green products, processes, and buildings as part of the green economy.

• Economically Distressed and Underserved Communities. Investments that strengthen diverse communities that have suffered disproportionate economic and job losses and/or are rebuilding to become more competitive in the global economy.

iii. The extent to which the EDA Co-applicant's Application for EDA funding reflects an outstanding, high quality, and meaningful contribution to the Consortium's overall Proposal and evaluation under Section V.E. of the FOA.

iv. Feasibility of proposed project and project readiness. EDA may consider past performance of the EDA Co-applicant with respect to the receipt of and the performance of prior awards of Federal assistance under this factor.

v. Quality and amount of local match and/or related private investment offered as part of the project.

Intergovernmental Review: Applications for assistance under EDA's programs are subject to the State review requirements imposed by Executive Order 12372, “Intergovernmental Review of Federal Programs.”

The Department of Commerce Pre-Award Notification Requirements for Grants and Cooperative Agreements: Administrative and national policy requirements for all Department of Commerce awards are applicable to this competitive solicitation. These requirements may be found in the Department of Commerce Pre-Award Notification Requirements for Grants and Cooperative Agreements, which was published in the Federal Register on February 11, 2008 (73 FR 7696). This notice may be accessed by entering the Federal Register volume and page number provided in the previous sentence at the following Web site: http://www.gpoaccess.gov/fr/index.html.

Paperwork Reduction Act: This document contains collection-of-information requirements subject to the Paperwork Reduction Act (PRA). The use of Form ED-900 (Application for Investment Assistance) has been approved by the Office of Management and Budget (OMB) under the Control Number 0610-0094. The use of Forms SF-424 (Application for Financial Assistance), SF-424A (Budget Information—Non-Construction Programs), SF-424B (Assurances—Non-Construction Programs), SF-424C (Budget Information—Construction Programs), SF-424D (Assurances—Construction Programs), and Form SF-LLL (Disclosure of Lobbying Activities) has been approved under OMB Control Numbers 4040-0004, 0348-0044, 4040-0007, 4040-0008, 4040-0009, and 0348-0046 respectively. The Form CD-346 (Applicant for Funding Assistance) is approved under OMB Control Number 0605-0001. Notwithstanding any other provision of law, no person is required to respond to, nor shall any person be subject to a penalty for failure to comply with, a collection of information subject to the requirements of the PRA unless that collection of information displays a currently valid OMB Control Number.

Executive Order 12866 (Regulatory Planning and Review): This notice has been determined to be not significant for purposes of Executive Order 12866.

Executive Order 13132 (Federalism): It has been determined that this notice does not contain policies with Federalism implications as that term is defined in Executive Order 13132.

Administrative Procedure Act/Regulatory Flexibility Act: Prior notice and an opportunity for public comments are not required by the Administrative Procedure Act or any other law for rules concerning grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: March 26, 2010.
John R. Fernandez,
Assistant Secretary of Commerce for Economic Development.

[FR Doc. 2010-7467 Filed 4-1-10; 8:45 am]

BILLING CODE 3510-24-P